DEPARTMENT OF TRANSPORTATION

Federal Aviation Administration

Notice of Intent To Rule on Application 14-09-C-00-DCA To Impose and Use the Revenue From a Passenger Facility Charge (PFC) at Ronald Reagan Washington National Airport, Arlington, Virginia for Projects at Ronald Reagan Washington National Airport and Washington Dulles International Airport

AGENCY: Federal Aviation Administration (FAA), DOT.

ACTION: Notice of Intent to Rule on Application.

SUMMARY: The FAA proposes to rule and invites public comment on the application to impose and use the revenue from a PFC at Ronald Reagan Washington National Airport (DCA) under the provisions of 49 U.S.C. 40117 and part 158 of the Federal Aviation Regulations (14 CFR part 158).

DATES: Comments must be received on or before June 12, 2014.

ADDRESSES: Comments on this application may be mailed or delivered in triplicate to the FAA at the following address: Washington-Dulles Airports District Office, 23723 Air Freight Lane, Suite 210, Dulles, Virginia 20166.

In addition, one copy of any comments submitted to the FAA must be mailed or delivered to Mr. Andrew T. Rountree, Vice-President for Finance and Chief Financial Officer of the Metropolitan Washington Airports Authority at the following address: Metropolitan Washington Airports Authority, 1 Aviation Circle, Washington, DC 200001-6000. Air carriers and foreign air carriers may submit copies of written comments previously provided to the Metropolitan Washington Airports Authority under section 158.23 of part 158.

FOR FURTHER INFORMATION CONTACT: Mr. Jeffrey Breeden, PFC Program Specialist, Washington-Dulles Airports District Office, 23723 Air Freight Lane, Suite 210, Dulles, Virginia 20166, (703) 661-1363. The application may be reviewed in person at this same location.

SUPPLEMENTARY INFORMATION: The FAA proposes to rule and invites public comment on the application to impose and use the revenue from a PFC at DCA under the provisions of 49 U.S.C. 40117 and part 158 of the Federal Aviation Regulations (14 CFR part 158).

On April 8, 2014, the FAA determined that the application to impose and use the revenue from a PFC submitted by the Metropolitan Washington Airports Authority (MWAA) was substantially complete within the requirements of section 158.25 of part 158. The FAA will approve or disapprove the application, in whole or in part, not later than July 11, 2014.

The following is a brief overview of the application:

Proposed charge effective date: August 1, 2014.

Proposed charge expiration date: May 1, 2025.

Level of the proposed PFC: $4.50.

Total estimated PFC revenue: $465,263,476.

Brief description of proposed projects:

Washington Dulles International Airport:

Dulles Airport Metrorail Station (including estimated 2000 feet of rail/guideway).

Ronald Reagan Washington National Airport:

Runway 1-19 RSA Improvements, Runway 1-19 Overlay, Runway 15-33 Overlay, Runway 4-22 Overlay, Runway 15-33 RSA Improvements and EA, Runway 4-22 RSA Improvements and EA, Taxiways B/K/P Resurfacing, River Rescue North Boat House, ARFF Station 301, and New Apron at Demolished ARFF Site.

Class or classes of air carriers which the public agency has requested not be required to collect PFCs: FAA has determined that MWAA's proposed class of carriers, Nonscheduled/on-demand air carriers, account for less than 1 percent of the total annual enplanements, and are approved for exclusion from the requirement to collect PFCs at DCA.

Any person may inspect the application in person at the FAA office listed above under FOR FURTHER INFORMATION CONTACT.

In addition, any person may, upon request, inspect the application, notice and other documents germane to the application in person at the offices of the MWAA.

Issued in Dulles, Virginia on April, 2014.
Terry J. Page,
Manager, Washington Airports District Office, Eastern Region, Federal Aviation Administration.

[FR Doc. 2014-10954 Filed 5-12-14; 8:45 am]

BILLING CODE 4910-13-P